DEPARTMENT OF DEFENSE

Defense Acquisition Regulations System

48 CFR Parts 225 and 252

Foreign Acquisition; Solicitation Provisions and Contract Clauses

CFR Correction

In Title 48 of the Code of Federal Regulations, Chapter 2 (Parts 201 to 299), revised as of October 1, 2017, on page 179, in 225.872-1, in paragraph (a), and on page 465, in 252.225-7021, under TRADE AGREEMENTS-BASIC (DEC 2016), under Qualifying country, “Czech Republic” is added in alphabetical order.

[FR Doc. 2018-09059 Filed 4-26-18; 8:45 am]

BILLING CODE 1301-00-D